DEPARTMENT OF DEFENSE

Office of the Secretary

[Transmittal Nos. 13-61]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-61 with attached transmittal and policy justification.

Dated: February 6, 2014.
Aaron Siegel,
Alternate OSD Federal Register Liaison Officer, Department of Defense.

Transmittal No. 13-61

Notice of Proposed Issuance of Letter of Offer Pursuant to Section 36(b)(1) of the Arms Export Control Act, as amended

(i) Prospective Purchaser: Iraq

(ii) Total Estimated Value:

Major Defense Equipment* | $300 million
Other | $400 million
TOTAL | $700 million

(iii) Description and Quantity or Quantities of Articles or Services under Consideration for Purchase: commercially available FAA Air Traffic Control (ATC) Equipment Suite and Airfield Navigational Aids Suites installed at four bases (Tikrit, Al Basra, Al Kut, and Taji). The ATC Equipment Suite includes 4 ASR-11 Airport Surveillance Radars, 10 ATC Automation system with 10 controller consoles, 4 AutoTrac II Airfield Support and Navigation Suites, 2 Primary Search Radars and 2 Mono-pulse secondary surveillance radars. The Airfield Navigation Aids Suite includes 2 Very High Frequency Omni-directional Range (VORTAC) and 3 Instrument Landing Systems with Distance Measuring Equipment, 2 Airfield Lighting Systems with Flush Mounted Lights for the runway and taxiways, Air Traffic Control Tower Equipment Suite. Also provided are site surveys, system integration, installation, testing, repair and return, facilities, warranties, spare and repair parts, support equipment, personnel training and training equipment, publications and technical documentation, U.S. Government and contractor engineering and logistics support services, and other related elements of logistics and program support.

(iv) Military Department: Air Force (QAZ, Amd #1)

(v) Prior Related Cases, if any: None

(vi) Sales Commission, Fee, etc., Paid, Offered, or Agreed to be Paid: None

(vii) Sensitivity of Technology Contained in the Defense Article or Defense Services Proposed to be Sold: None

(viii) Date Report Delivered to Congress: 4 February 2014

* as defined in Section 47(6) of the Arms Export Control Act.

POLICY JUSTIFICATION

Iraq—Air Traffic Control and Landing System

The Government of Iraq has requested a proposed sale of commercially available FAA Air Traffic Control (ATC) Equipment Suite and Airfield Navigational Aids Suites to be installed at four bases (Tikrit, Al Basra, Al Kut, and Taji). The ATC Equipment Suite includes 4 ASR-11 Airport Surveillance Radars, 10 ATC Automation system with 10 controller consoles, 4 AutoTrac II Airfield Support and Navigation Suites, 2 Primary Search Radars and 2 Mono-pulse secondary surveillance radars. The Airfield Navigation Aids Suite includes 2 Very High Frequency Omni-directional Range (VORTAC) and 3 Instrument Landing Systems with Distance Measuring Equipment, 2 Airfield Lighting Systems with Flush Mounted Lights for the runway and taxiways, Air Traffic Control Tower Equipment Suite. Also provided are site surveys, system integration, installation, testing, repair and return, facilities, warranties, spare and repair parts, support equipment, personnel training and training equipment, publications and technical documentation, U.S. Government and contractor engineering and logistics support services, and other related elements of logistics and program support. The estimated cost is $700 million.

This proposed sale will contribute to the foreign policy and national security of the United States by helping to improve the security of a strategic partner. This proposed sale directly supports the Iraq government and serves the interests of the Iraqi people and the United States.

The proposed sale will contribute to Iraq's continued efforts toward rebuilding its airfield systems at Tikrit, Al Basra, Al Kut, and Taji Air Bases for near-term basing of multiple aircraft. The renovations and upgrades to the airfields and systems will allow for greater ease in launch and recovery of aircraft and will enhance the overall sustainment to aircraft and affiliated systems. This equipment aids Iraq's continuing reconstruction effort and directly improves Iraq's ability to control its own airspace.

The proposed sale of this equipment and support will not alter the basic military balance in the region.

The principal contractor is unknown and will be determined through a competitive process. There are no known offset agreements proposed in connection with this potential sale.

Implementation of this proposed sale will not require the assignment of any additional U.S. Government or contractor representatives to Iraq.

There will be no adverse impact on U.S. defense readiness as a result of this proposed sale.

[FR Doc. 2014-02894 Filed 2-10-14; 8:45 am]

BILLING CODE 5001-06-P